DEPARTMENT OF DEFENSE

Office of the Secretary

DoD Board of Actuaries; Notice of Federal Advisory Committee Meeting

AGENCY: DoD.

ACTION: Meeting notice.

SUMMARY: The Department of Defense is publishing this notice to announce a Federal Advisory Committee meeting of the DoD Board of Actuaries. This meeting is open to the public.

DATES: July 24, 2014, from 1:00 p.m. to 5:00 p.m. and July 25, 2014, from 10:00 a.m. to 1:00 p.m.

ADDRESSES: 4800 Mark Center Drive, Conference Room 18, Level B1, Alexandria, VA 22350.

FOR FURTHER INFORMATION CONTACT: Mrs. Kathleen Ludwig at the Defense Human Resource Activity, DoD Office of the Actuary, 4800 Mark Center Drive, Suite 06J25-01, Alexandria, VA 22350-4000. Phone: 571-372-1993. Email: Kathleen.A.Ludwig.civ@mail.mil.

SUPPLEMENTARY INFORMATION: This meeting is being held under the provision of the Federal Advisory Committee Act of 1972 (5 U.S.C., Appendix, as amended), the Government in the Sunshine Act of 1976 (5 U.S.C. 552b, as amended), and 41 CFR 102-3.150.

Purpose of the Meeting: The purpose of the meeting is for the Board to review DoD actuarial methods and assumptions to be used in the valuations of the Education Benefits Fund (in accordance with the provisions of 10 U.S.C. 183 and 10 U.S.C. 2006), the Military Retirement Fund (10 U.S.C. 183 and 10 U.S.C. 1465 et seq.), and the Voluntary Separation Incentive Fund (10 U.S.C. 183 and 10 U.S.C. 1175).

Agenda: Education Benefits Fund (July 24, 1:00 p.m.-5:00 p.m.).

1. Briefing on Investment Experience

2. September 30, 2013, Valuation Proposed Economic Assumptions *

3. September 30, 2013, Valuation Proposed Methods and Assumptions—Reserve Programs *

4. September 30, 2013, Valuation Proposed Methods and Assumptions—Active Duty Programs *

5. Developments in Education Benefits

Military Retirement Fund (July 25, 10:00 a.m.-1:00 p.m.)

1. Briefing on Investment Experience

2. September 30, 2013, Valuation of the Military Retirement Fund *

3. Proposed Methods and Assumptions for September 30, 2014, Valuation of the Military Retirement Fund *

4. Proposed Methods and Assumptions for December 31, 2013, Voluntary Separation Incentive (VSI) Fund Valuation *

5. Recent and Proposed Legislation

* Board approval required

Public's Accessibility to the Meeting: Pursuant to 5 U.S.C. 552b and 41 CFR 102-3.140 through 102-3.165, and the availability of space, this meeting is open to the public. Seating is on a first come basis. The Mark Center is an annex of the Pentagon. Those without a valid DoD Common Access Card must contact Kathleen Ludwig at 571-372-1993 no later than June 16, 2014. Failure to make the necessary arrangements will result in building access being denied. It is strongly recommended that attendees plan to arrive at the Mark Center at least 30 minutes prior to the start of the meeting.

Pursuant to 41 CFR 102-3.105(j) and 102-3.140, and section 10(a)(3) of the Federal Advisory Committee Act of 1972, the public or interested organizations may submit written statements to the DoD Board of Actuaries about its mission and functions. Written statements may be submitted at any time or in response to the stated agenda of a planned meeting of the Board. All written statements shall be submitted to the Designated Federal Officer (DFO) for the Board and this individual will ensure that the written statements are provided to the membership for their consideration. The DFO is Inger Pettygrove, Inger.M.Pettygrove.civ@mail.mil; DHRA Office of the Actuary, 4800 Mark Center Drive, Suite 06J25-01, Alexandria, VA 22350-4000; (571) 372-1998.

Statements being submitted in response to the agenda mentioned in this notice must be received by the DFO at the address listed above at least five calendar days prior to the meeting which is the subject of this notice. Written statements received after this date may not be provided to or considered by the Board until its next meeting.

The DFO will review all timely submissions with the Board and ensure they are provided to all members of the Board before the meeting that is the subject of this notice.

Committee's Point of Contact: Persons desiring to attend the DoD Board of Actuaries meeting must notify Kathleen Ludwig at (571) 372-1993, or Kathleen.A.Ludwig.civ@mail.mil, by June 16, 2014. For further information contact Mrs. Ludwig at the Defense Human Resource Activity, DoD Office of the Actuary, 4800 Mark Center Drive, STE 06J25-01, Alexandria, VA 22350-4000.

Dated: February 10, 2014.
Aaron Siegel,
Alternate OSD Federal Register Liaison Officer, Department of Defense.

[FR Doc. 2014-03155 Filed 2-12-14; 8:45 am]

BILLING CODE 5001-06-P